FEDERAL COMMUNICATIONS COMMISSION

47 CFR Part 73

Radio Broadcasting Services; Various Locations

AGENCY: Federal Communications Commission.

ACTION: Final rule.

SUMMARY: The Commission, on its own motion, editorially amends the Table of FM Allotments to specify the actual classes of channels allotted to various communities. The changes in channel classifications have been authorized in response to applications filed by licensees and permittees operating on these channels. This action is taken pursuant to Revision of Section 73.3573(a)(1) of the Commission's Rules Concerning the Lower Classification of an FM Allotment, 4 FCC Rcd 2413 (1989), and the Amendment of the Commission's Rules to permit FM Channel and Class Modifications [Upgrades] by Applications, 8 FCC Rcd 4735 (1993).

DATES: Effective August 24, 2000.

ADDRESSES: Federal Communications Commission, Washington, D.C. 20554.

FOR FURTHER INFORMATION CONTACT: Kathleen Scheuerle, Mass Media Bureau, (202) 418-2180.

SUPPLEMENTARY INFORMATION: This is a summary of the Commission's Report and Order, adopted August 2, 2000, and released August 11, 2000. The full text of this Commission decision is available for inspection and copying during normal business hours in the Commission's Reference Center, 445 12th Street, SW, Washington, D.C. The complete text of this decision may also be purchased from the Commission's copy contractors, International Transcription Service, Inc., 1231 20th Street, NW, Washington, DC. 20036, (202) 857-3800, facsimile (202) 857-3805.

List of Subjects in 47 CFR Part 73

Radio broadcasting.

Part 73 of title 47 of the Code of Federal Regulations is amended as follows:

PART 73—[AMENDED]

1. The authority citation for part 73 continues to read as follows:

Authority: 47 U.S.C. 154, 303, 334 and 336.

§ 73.202 [Amended]

2. Section 73.202(b), the Table of FM Allotments under California, is amended by removing Channel 253B and adding Channel 253B1 at Delano and by removing Channel 237B1 and adding Channel 237B at Fort Bragg.

3. Section 73.202(b), the Table of FM Allotments under Colorado, is amended by removing Channel 288A and adding Channel 289C3 at Sterling.

4. Section 73.202(b), the Table of FM Allotments under Georgia, is amended by removing Channel 235C and adding Channel 235C1 at Atlanta.

5. Section 73.202(b), the Table of FM Allotments under Idaho, is amended by removing Channel 271A and adding Channel 271C1 at Driggs and by removing Channel 296A and adding Channel 296C1 at Idaho Falls.

6. Section 73.202(b), the Table of FM Allotments under Illinois, is amended by removing Channel 236A and adding Channel 236B1 at Carterville.

7. Section 73.202(b), the Table of FM Allotments under Kansas, is amended by removing Channel 265A and adding Channel 265C3 at Clay Center.

8. Section 73.202(b), the Table of FM Allotments under Kentucky, is amended by removing Channel 221C3 and adding Channel 221C2 at Carlisle and by removing Channel 222C2 and adding Channel 222C3 at London.

9. Section 73.202(b), the Table of FM Allotments under Louisiana, is amended by removing Channel 250A and adding Channel 250C2 at De Ridder.

10. Section 73.202(b), the Table of FM Allotments under Michigan, is amended by removing Channel 288A and adding Channel 288C1 at Pickford.

11. Section 73.202(b), the Table of FM Allotments under Nebraska, is amended by removing Channel 272C3 and adding Channel 275C1 at Kearney.

12. Section 73.202(b), the Table of FM Allotments under New Mexico, is amended by removing Channel 275A and adding Channel 275C2 at Las Vegas.

13. Section 73.202(b), the Table of FM Allotments under Oregon, is amended by removing Channel 259A and adding Channel 259C3 at Bend.

14. Section 73.202(b), the Table of FM Allotments under Texas, is amended by removing Channel 251C2 and adding Channel 251C1 at Anson and by removing Channel 240C3 and adding Channel 239C2 at Big Spring and by removing Channel 284C and adding Channel 284C1 at Burkburnett and by removing Channel 236C2 and adding Channel 236C1 at Comfort and by removing Channel 241C2 and adding Channel 241C1 at Odessa and by removing Channel 285C2 and adding Channel 285C1 at Pilot Point and by removing Channel 245A and adding Channel 245C3 at Pittsburg.

15. Section 73.202(b), the Table of FM Allotments under Washington, is amended by removing Channel 249A and adding Channel 249C3 at East Wenatchee.

Federal Communications Commission.
John A. Karousos,
Chief, Allocations Branch, Policy and Rules Division, Mass Media Bureau.

[FR Doc. 00-21398 Filed 8-23-00; 8:45 am]

BILLING CODE 6712-01-P